ENVIRONMENTAL PROTECTION AGENCY

[A-1-FRL-9917-37-Region-1]

Notice of Decision To Issue a Clean Air Act PSD Permit for Salem Harbor Redevelopment Project

AGENCY: Environmental Protection Agency.

ACTION: Notice of final action.

SUMMARY: This notice announces that the Massachusetts Department of Environmental Protection (MassDEP) issued a final permit decision for a Clean Air Act Prevention of Significant Deterioration (PSD) permit (Transmittal Number X254064) to Footprint Power Salem Harbor Development, LP for the construction of the Salem Harbor Redevelopment (SHR) Project.

DATES: MassDEP issued a final PSD permit decision for the SHR on September 11, 2014. The PSD permit for SHR became final and effective on September 11, 2014. Pursuant to Section 307(b)(1) of the Clean Air Act, 42 U.S.C. 7607(b)(1), judicial review of this final permit decision, to the extent it is available, may be sought by filing a petition for review in the United States Court of Appeals for the First Circuit within 60 days of October 2, 2014.

ADDRESSES: Documents relevant to the above-referenced permit are available for public inspection during normal business hours at the following address: Massachusetts Department of Environmental Protection, Northeast Regional Office, 205B Lowell Street, Wilmington, MA 01887.

FOR FURTHER INFORMATION CONTACT: Ida E. McDonnell, Manager, Air Permits, Toxics and Indoor Programs Unit, Environmental Protection Agency, EPA New England Regional Office, (617) 918-1653, mcdonnell.ida@epa.gov. Key portions of the administrative record for this permit decision (including the final permit, all public comments, MassDEP's responses to the public comments, and additional supporting information) are available through a link at MassDEP's Web site at: http://www.mass.gov/eea/agencies/massdep/air/approvals/footprint.html. Anyone who wishes to review the Environmental Appeals Board (EAB or Board) decisions described below or the documents in the EAB's electronic docket for its decision related to this matter can obtain them at http://www.epa.gov/eab/.

SUPPLEMENTARY INFORMATION: The MassDEP, acting under authority of an April 11, 2011 PSD delegation agreement with EPA Region 1, issued a final PSD permit decision on January 30, 2014 to the Footprint Power Salem Harbor Development, LP authorizing construction and operation of the SHR project. Four commenters jointly filed a petition seeking review of MassDEP's January 30, 2014 permit decision for the SHR project with the EPA EAB. On September 2, 2014, the Board issued an order denying review. See In re Footprint Power Salem Harbor Development, LP, PSD Appeal No. 14-02, Slip opinion (EAB September 2, 2014), 16E.A.D_. Following denial of review, pursuant to 40 CFR 124.19(l)(2), MassDEP issued a final permit decision to the SHR project on September 11, 2014. All conditions of the SHR PSD permit, Transmittal No. X254064, became final and effective on September 11, 2014.

Dated: September 18, 2014.
Deborah A. Szaro,
Acting Regional Administrator, EPA New England.

[FR Doc. 2014-23539 Filed 10-1-14; 8:45 am]

BILLING CODE 6560-50-P